DEPARTMENT OF COMMERCE

International Trade Administration

North American Free Trade Agreement (NAFTA), Article 1904; Binational Panel Reviews: Notice of Completion of Panel Review

AGENCY: United States Section, NAFTA Secretariat, International Trade Administration, Department of Commerce.

ACTION: Notice of Completion of Panel Review in the matter of Uncoated Groundwood Paper From Canada: Injury Determination (Secretariat File Number: USA-CDA-2018-1904-07).

SUMMARY: The U.S. Section of the NAFTA Secretariat received Requests for Panel Review filed on behalf of Resolute FP Canada Inc. and Resolute FP US Inc. (collectively, “Resolute”) on October 26, 2018, and on behalf of the Government of Quebec on October 29, 2018, pursuant to NAFTA Article 1904. Panel Review was requested of the U.S. International Trade Commission's final injury determination involving imports of Uncoated Groundwood Paper from Canada. Pursuant to Rule 39(1) of the NAFTA Rules of Procedure for Article 1904 Binational Panel Reviews (Rules), an interested person shall file a Complaint within 30 days after the filing of a first Request for Panel Review. Given that no Complaint has been filed in a timely manner, the panel review has been terminated pursuant to Rule 71(3), and notice is hereby given that panel review of the NAFTA Groundwood Paper Injury dispute has been completed effective November 27, 2018.

FOR FURTHER INFORMATION CONTACT: Paul E. Morris, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Dated: January 29, 2019.
Paul E. Morris,
U.S. Secretary, NAFTA Secretariat.

[FR Doc. 2019-00774 Filed 1-31-19; 8:45 am]

BILLING CODE 3510-GT-P